DEPARTMENT OF TRANSPORTATION

Federal Aviation Administration

14 CFR Part 39

[Docket No. FAA-2008-0837; Directorate Identifier 2008-CE-043-AD; Amendment 39-15633; AD 2008-16-15]

RIN 2120-AA64

Airworthiness Directives; Eclipse Aviation Corporation Model EA500 Airplanes

AGENCY: Federal Aviation Administration (FAA), DOT.

ACTION: Final rule; request for comments.

SUMMARY: The FAA is superseding emergency Airworthiness Directive (AD) 2008-13-51, which currently applies to all owners/operators of Eclipse Aviation Corporation (Eclipse) Model EA500 airplanes that received the emergency AD by letter issued June 12, 2008. Emergency AD 2008-13-51 requires owner/operators to insert temporary revisions into the emergency and normal procedures sections of the airplane flight manual (AFM), do a pilot evaluation of the throttles with replacement as necessary, and report the evaluation results to the FAA. Emergency AD 2008-13-51 was the result of the throttle position exceeding its maximum range. Since issuing that AD, Eclipse developed an FAA-approved test procedure and issued Eclipse Aviation Alert Service Bulletin SB 500-76-001, REV B, dated July 22, 2008. The service bulletin provides a standardized procedure for testing and modifying (as applicable) the throttle lever with replacement as necessary. We are issuing this AD to mandate the actions in this service bulletin to be done by a person authorized to perform maintenance and reduce the likelihood of the throttle position signal exceeding its maximum range, which could cause loss of left and right engine control. This condition could result in the inability to maintain desired airspeed and/or altitude with consequent loss of control.

DATES: This AD becomes effective on August 7, 2008.

On August 7, 2008, the Director of the Federal Register approved the incorporation by reference of certain publications listed in this AD.

We must receive any comments on this AD by October 6, 2008.

ADDRESSES: Use one of the following addresses to comment on this AD.

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

To get the service information identified in this AD, contact Eclipse Aviation Corporation, 2503 Clark Carr Loop, SE., Albuquerque, New Mexico 87106; telephone: (505) 724-1200.

To view the comments to this AD, go to http://www.regulations.gov. The docket number is FAA-2008-0837; Directorate Identifier 2008-CE-043-AD.

FOR FURTHER INFORMATION CONTACT: Mitchell Soth, Aerospace Engineer, FAA, Forth Worth Airplane Certification Office, 2601 Meacham Blvd., Fort Worth, Texas 76137; telephone: (817) 222-5104; fax: (817) 222-5960.

SUPPLEMENTARY INFORMATION:

Discussion

Following a wind shear encounter on final approach, the pilot of an Eclipse Model EA500 airplane applied full throttle using enough force against the forward stops to exceed the design throttle position signal maximum range. The associated fault mode held the engine thrust settings at the last known throttle position, which was maximum.

Following the balked landing, the pilot elected to shutdown one engine. Upon shutdown of the one engine, the opposite engine thrust reduced to idle and was unresponsive to subsequent throttle lever movement. The pilot was able to land the airplane with no injury or substantial damage. Both main tires were blown during the event.

Exceeding the throttle position signal maximum range could cause loss of left and right engine control, which could result in the inability to maintain desired airspeed and/or altitude with consequent loss of control.

On June 12, 2008, the FAA issued emergency AD 2008-13-51 to require owner/operators to insert the following into emergency and normal procedures sections of the EA500 pilots operating handbook (POH) and airplane flight manual (AFM), as applicable:

• Temporary Revision No. 005 To EA500 POH and FAA-Approved Airplane Flight Manual, L & R ENG CONTROL FAIL, AFM part number (P/N) 06-122204, dated June 12, 2008;

• Temporary Revision No. 006 To EA500 POH and FAA-Approved Airplane Flight Manual, THROTTLE STOPS, AFM P/N 06-122204, dated June 12, 2008;

• Temporary Revision No. 007 To EA500 POH and FAA-Approved Airplane Flight Manual, L & R ENG CONTROL FAIL, AFM P/N 06-121654, dated June 12, 2008;

• Temporary Revision No. 008 To EA500 POH and FAA-Approved Airplane Flight Manual, THROTTLE STOPS, AFM P/N 06-121654, dated June 12, 2008;

• Temporary Revision No. 013 To EA500 POH and FAA-Approved Airplane Flight Manual, L & R ENG CONTROL FAIL, AFM P/N 06-100106, dated June 12, 2008; and

• Temporary Revision No. 014 To EA500 POH and FAA-Approved Airplane Flight Manual, THROTTLE STOPS, AFM P/N 06-100106, dated June 12, 2008.

The emergency AD also required an evaluation of the throttles with replacement as necessary and a report of the evaluation results to the FAA.

Emergency AD 2008-13-51 allowed the pilot to do the evaluation of the throttle. The FAA has since determined that the throttles must be inspected and modified (as applicable) by a person authorized to perform maintenance as specified in 14 CFR section 43.3 of the Federal Aviation Administration Regulations (14 CFR 43.3) following Eclipse Aviation Alert Service Bulletin SB 500-76-001, REV B, dated July 22, 2008. The FAA has also determined the reporting requirement is no longer necessary.

Relevant Service Information

We reviewed Eclipse Aviation Alert Service Bulletin SB 500-76-001, REV B, dated July 22, 2008. The service information describes procedures for inspecting and modifying (as applicable) the throttles with replacement as necessary.

FAA's Determination and Requirements of This AD

We are issuing this AD because we evaluated all the information and determined the unsafe condition described previously is likely to exist or develop on other products of the same type design. This AD supersedes emergency AD 2008-13-51 and requires the following:

• Inserting the above-mentioned temporary revisions into the appropriate AFM; and

• Inspecting and modifying (as applicable) the throttles with replacement as necessary.

This is considered interim action. We may take future rulemaking action.

FAA's Determination of the Effective Date

Since an unsafe condition exists that requires the immediate adoption of this AD, we determined that notice and opportunity for public comment before issuing this AD are impracticable, and that good cause exists for making this amendment effective in fewer than 30 days.

Comments Invited

This AD is a final rule that involves requirements affecting flight safety, and we did not precede it by notice and an opportunity for public comment. We invite you to send any written relevant data, views, or arguments regarding this AD. Send your comments to an address listed under the ADDRESSES section. Include the docket number “FAA-2008-0837; Directorate Identifier 2008-CE-043-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact we receive concerning this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding a new AD to read as follows:

2008-16-15 Eclipse Aviation Corporation: Amendment 39-15633; Docket No. FAA-2008-0837; Directorate Identifier 2008-CE-043-AD.

Effective Date

(a) This AD becomes effective on August 7, 2008.

Affected ADs

(b) This AD supersedes emergency AD 2008-13-51, which was sent by individual letter issued June 12, 2008, to owners/operators of Eclipse Model EA500 airplanes.

Applicability

(c) This AD affects Model EA500 airplanes, all serial numbers, that are certificated in any category.

Unsafe Condition

(d) This AD is the result of the throttle position exceeding its maximum range. We are issuing this AD to reduce the likelihood of the throttle position signal exceeding its maximum range, which could cause loss of left and right engine control. This condition could result in the inability to maintain desired airspeed and/or altitude with consequent loss of control.

Compliance

(e) To address this problem, you must do the following, unless already done:

Actions | Compliance | Procedures
(1) Insert the following into the emergency and normal procedures sections of the applicable EA500 pilots operating handbook (POH) and airplane flight manual (AFM): (i) For POH/AFM part number (P/N) 06-122204: Temporary Revision No. 005 To EA500 POH and FAA-Approved Airplane Flight Manual, L & R ENG CONTROL FAIL, dated June 12, 2008; and Temporary Revision No. 006 To EA500 POH and FAA-Approved Airplane Flight Manual, THROTTLE STOPS, dated June 12, 2008. | Before further flight after August 7, 2008 (the effective date of this AD). If you previously did this action per compliance with emergency AD 2008-13-51, then you may take “unless already done” credit for this portion of the AD. | Under 14 CFR section 43.7 of the Federal Aviation Administration Regulations (14 CFR 43.7), the owner/operator holding at least a private pilot certificate is allowed to insert the AFM temporary revisions. Make an entry into the aircraft logbook showing compliance with this portion of the AD per compliance with section 43.9 of the Federal Aviation Regulations (14 CFR 43.9).
(ii) For POH/AFM P/N 06-121654: Temporary Revision No. 007 To EA500 POH and FAA-Approved Airplane Flight Manual, L & R ENG CONTROL FAIL, dated June 12, 2008; and Temporary Revision No. 008 To EA500 POH and FAA-Approved Airplane Flight Manual, THROTTLE STOPS, dated June 12, 2008. |  |
(iii) For POH/AFM P/N 06-100106: Temporary Revision No. 013 To EA500 POH and FAA-Approved Airplane Flight Manual, L & R ENG CONTROL FAIL, dated June 12, 2008; and Temporary Revision No. 014, To EA500 POH and FAA-Approved Airplane Flight Manual, THROTTLE STOPS, dated June 12, 2008. |  |
(2) For POH/AFM P/N 06-122204, inserting Section 3, Emergency Procedures, Revision 1, dated June 25, 2008; and Section 4, Normal Procedures, Revision 1, dated June 25, 2008, satisfies the requirement specified in paragraph (e)(1)(i) of this AD. | Before further flight after August 7, 2008 (the effective date of this AD). | Under 14 CFR section 43.7 of the Federal Aviation Administration Regulations (14 CFR 43.7), the owner/operator holding at least a private pilot certificate is allowed to insert the AFM temporary revisions. Make an entry into the aircraft logbook showing compliance with this portion of the AD per compliance with section 43.9 of the Federal Aviation Regulations (14 CFR 43.9).
(3) Inspect and modify (as applicable) the throttle quadrant assembly (TQA). | (i) If you have done all the actions of emergency AD 2008-13-51 before August 7, 2008 (the effective date of this AD), an appropriately-licensed mechanic must do the inspection required by this AD at whichever of the following occurs first: | Follow the instructions in Eclipse Aviation Alert Service Bulletin SB 500-76-001, REV B, dated July 22, 2008.
| (A) No later than the next maintenance check; or |
| (B) Within the next 60 days after August 7, 2008 (the effective date of this AD). |
| (ii) If you have not done all of the actions of emergency AD 2008-13-51 as of August 7, 2008 (the effective date of this AD), an appropriately-licensed mechanic must do the inspection required by this AD before further flight after August 7, 2008 (the effective date of this AD). You may operate the airplane up to 10 hours time-in-service to reposition the airplane to the service center or maintenance facility doing the inspection provided the flight(s) occur(s) within 30 days after August 7, 2008 (the effective date of this AD). |
(4) If any TQA fails the inspection required in paragraph (e)(3) of this AD, replace the TQA with a TQA that passes the test procedure set forth in Eclipse Aviation Alert Service Bulletin SB 500-76-001, REV B, dated July 22, 2008. | Before further flight after the inspection where any TQA failed. | Replace the TQA using FAA-approved procedures. Contact the FAA at the address in paragraph (f) of this AD for an FAA-approved procedure.

Note: To get copies of the temporary revisions specified in this AD, contact Eclipse Aviation Corporation, 2503 Clark Carr Loop, SE., Albuquerque, NM 87105, fax: 505-241-8802; e-mail: customercare@eclipseaviation.com.

Alternative Methods of Compliance

(f) The Manager, Fort Worth Airplane Certification Office, FAA, ATTN: Mitchell Soth, FAA, 2601 Meacham Blvd, Fort Worth, Texas 76137; telephone: (817) 222-5104; fax: (817) 222-5960, has the authority to approve AMOCs for this AD, if requested using the procedures found in 14 CFR 39.19. Before using any approved AMOC on any airplane to which the AMOC applies, notify your appropriate principal inspector (PI) in the FAA Flight Standards District Office (FSDO), or lacking a PI, your local FSDO.

Material Incorporated by Reference

(g) You must use Eclipse Aviation Alert Service Bulletin SB 500-76-001, REV B, dated July 22, 2008, to do the actions required by this AD, unless the AD specifies otherwise.

(1) The Director of the Federal Register approved the incorporation by reference of this service information under 5 U.S.C. 552(a) and 1 CFR part 51.

(2) For service information identified in this AD, contact Eclipse Aviation Corporation, 2503 Clark Carr Loop, SE., Albuquerque, NM 87105, fax: 505-241-8802; e-mail: customercare@eclipseaviation.com.

(3) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on July 29, 2008.
James E. Jackson,
Acting Manager, Small Airplane Directorate, Aircraft Certification Service.

[FR Doc. E8-17786 Filed 8-6-08; 8:45 am]

BILLING CODE 4910-13-P